DEPARTMENT OF ENERGY

Federal Energy Regulatory Commission

[Docket No. EL08-53-000]

PowerSouth Energy Cooperative, on Behalf of Itself and Its Members: Baldwin EMC; Central Alabama EC; CHELCO; Clarke-Washington EMC; Coosa Valley EC; Covington EC; Dixie EC; Escambia River EC; Gulf Coast EC; Pea River EC; Pioneer EC; South Alabama EC; Southern Pine EC; Tallapoosa River EC; West Florida EC; Wiregrass EC; The Utilities Board of the City of Andalusia, Alabama; The City of Brundidge, Alabama; Water Works & Electric Board of the City of Elba; The Utilities Board of the City of OPP, Alabama; Notice of Filing

April 10, 2008.

Take notice that on April 4, 2008, PowerSouth Energy Cooperative (PowerSouth), on behalf of itself and its member owners Baldwin EMC, Central Alabama EC, CHELCO, Clarke-Washington EMC, Coosa Valley EC, Covington EC, Dixie EC, Escambia River EC, Gulf Coast EC, Pea River EC, Pioneer EC, South Alabama EC, Southern Pine EC, Tallapoosa River EC, West Florida EC, Wiregrass EC, The Utilities Board of the City of Andalusia, Alabama, The City of Brundidge, Alabama, Water Works & Electric Board of the City of Elba, and The Utilities Board of the City of OPP, Alabama (Members), filed a request for partial waiver of certain regulatory obligations relating to section 210 of the Public Utilities Regulatory Policies Act of 1978 imposed on PowerSouth and its Members under sections 292.303(a) and 292.303(b), 18 CFR 292.303(a) and 202.303(b), of the Commission's regulations.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. Eastern Time on May 5, 2008.

Kimberly D. Bose,
Secretary.

[FR Doc. E8-8147 Filed 4-15-08; 8:45 am]

BILLING CODE 6717-01-P